DEPARTMENT OF DEFENSE

Office of the Secretary

[Docket ID: DoD-2014-OS-0059]

Privacy Act of 1974; System of Records

AGENCY: Office of Inspector General, DoD.

ACTION: Notice to add a new System of Records.

SUMMARY: The Office of the Inspector General proposes to add a new system of records, CIG-29, entitled “Privacy and Civil Liberties Complaint Reporting System” to its inventory of record systems subject to the Privacy Act of 1974, as amended. The system will support the DoD Inspector General Privacy and Civil Liberties Programs and the requirement to report complaints to the Defense Privacy and Civil Liberties Office for reporting to Congress.

DATES: Comments will be accepted on or before June 4, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mark Dorgan, DoD IG FOIA/Privacy Office, Department of Defense, Inspector General, 4800 Mark Center Drive, Alexandria, VA 22350-1500 or telephone: (703) 699-5680.

SUPPLEMENTARY INFORMATION: The Office of the Inspector General systems of records notices subject to the Privacy Act of 1974 (5 U.S.C. 552a), as amended, have been published in the Federal Register and are available from the address in FOR FURTHER INFORMATION CONTACT or from the Defense Privacy and Civil Liberties Office Web site at http://dpclo.defense.gov/.

Dated: April 30, 2014.
Aaron Siegel,
Alternate OSD Federal Register Liaison Officer, Department of Defense.

CIG-29

System name:

Privacy and Civil Liberties Complaint Reporting System.

System location:

Office of Inspector General, Department of Defense, 4800 Mark Center Drive, Suite 17F18, Alexandria, VA 22350-1500.

Categories of individuals covered by the system:

Individuals covered include any person that contacts the DoD IG FOIA/PA Office to register a civil liberties or Privacy Act complaint. This includes DoD employees, contractors, members of the military, and citizens.

Categories of records in the system:

Name, work and home telephone number, address, case number and date of initial contact. Copies of documents containing PII generated due to transmission, inquiry or allegation.

Authority for maintenance of the system:

Section 803 of Public Law 110-53, Implementing Recommendations of the 9/11 Commission Act of 2007; and DoD Instruction 1000.29, DoD Civil Liberties Program.

Purpose(s):

The system will support the DoD Inspector General Privacy and Civil Liberties Programs and the requirement to report complaints to the Defense Privacy and Civil Liberties Office for reporting to Congress.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the OIG's compilation of systems of records notices may apply to this system.

Policies and practices for storing, retrieving, accessing, retaining, and disposing of records in the system:

Storage:

Electronic storage media.

Retrievability:

Records will be retrieved by name, date of initial contact, subject keywords.

Safeguards:

Electronic records are maintained in secure system hardware with password protected access and will include data encryption of selected fields through Common Access Card. Records are accessible only to authorized persons with need-to-know who are properly screened, cleared and trained. Physical access will be restricted by the use of cipher locks, guards and is accessible only to authorized personnel. Records are maintained in a controlled facility.

Retention and Disposal:

Disposition pending (until the National Archives and Records Administration approves the retention and disposition of these records, treat as permanent).

System manager(s) and address:

Chief, FOIA/Privacy Office, DoD Office of Inspector General, Department of Defense, 4800 Mark Center Drive, Suite 17F18, Alexandria, VA 22350-1500.

Notification procedure:

Individuals seeking to determine whether information about themselves is contained in this system should address written inquiries to the Chief, Freedom of Information Act Requester Service Center/Privacy Act Office, Assistant Inspector General for Communications and Congressional Liaison, Office of the Inspector General, DoD, 4800 Mark Center Drive, Suite 17F18, Alexandria, VA 22350-1500.

For verification purposes, individuals shall provide their full name, address, any details which may assist in locating records of the individual and their signature.

In addition, the requester must provide a notarized statement or a signed declaration made in accordance with 28 U.S.C. 1746, in the following format:

If executed outside the United States:

‘I declare under penalty of perjury under the laws of the United States of America that the foregoing is true and correct. Executed on (date).’ (Signature).

If executed within the United States, its territories, possessions, or commonwealths: `I declare under penalty of perjury that the foregoing is true and correct. Executed on (date).' (Signature).

Record access procedures:

Individuals seeking access to information about themselves contained in this system should address written inquiries to the Chief, Freedom of Information Act Requester Service Center/Privacy Act Office, Assistant Inspector General for Communications and Congressional Liaison, Office of the Inspector General, DoD, 4800 Mark Center Drive, Suite 17F18, Alexandria, VA 22350-1500.

For verification purposes, individuals shall provide their full name, address, any details which may assist in locating records of the individual and their signature.

In addition, the requester must provide a notarized statement or a signed declaration made in accordance with 28 U.S.C. 1746, in the following format:

If executed outside the United States:

‘I declare under penalty of perjury under the laws of the United States of America that the foregoing is true and correct. Executed on (date).' (Signature).

If executed within the United States, its territories, possessions, or commonwealths: `I declare under penalty of perjury that the foregoing is true and correct. Executed on (date).’ (Signature).

Contesting record procedures:

The OIG's rules for accessing records and for contesting contents and appealing initial agency determinations are published in 32 CFR part 312 or may be obtained from the system manager.

Record source categories:

Individuals registering complaints and employees whose duties include privacy and civil liberties functions.

Exemptions claimed for the system:

Parts of this system may be exempt pursuant to 5 U.S.C. 552a(j)(2) if the information is compiled and maintained by a component of the agency that performs as its principle function any activity pertaining to the enforcement of criminal laws.

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

Records contained in this System of Records may be exempted from the requirements of subsections (c)(3); (d)(1), (2), (3) and (4); (e)(1) and (e)(4)(G), (H) and (I); and (f) of the Privacy Act pursuant to 5 U.S.C. 552a. Records may be exempted from these subsections or, additionally, from the requirements of subsections (c)(4); (e)(2), (3) and (8) of the Privacy Act of 1974 consistent with any exemptions claimed under 5 U.S.C. 552a(j)(2), (k)(2) or (k)(5) by the originator of the record, provided the reason for the exemption remains valid and necessary.

An exemption rule for this system has been promulgated in accordance with requirements of 5 U.S.C. 553(b)(1), (2), and (3), (c) and (e) and published in 32 CFR part 312. For additional information contact the system manager.

[FR Doc. 2014-10192 Filed 5-2-14; 8:45 am]

BILLING CODE 5001-06-P